DEPARTMENT OF THE INTERIOR

National Park Service

Notice of Intent to Repatriate Cultural Items: Maryhill Museum of Art, Goldendale, WA; Correction

AGENCY: National Park Service, Interior.

ACTION: Notice; correction.

Notice is here given in accordance with the Native American Graves Protection and Repatriation Act (NAGPRA), 25 U.S.C. 3005, of the intent to repatriate cultural items in the possession of the Maryhill Museum of Art, Goldendale, WA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

This notice corrects a Notice of Intent to Repatriate Cultural Items published in the Federal Register (73 FR 16902, March 31, 2008) by including the Confederated Tribes and Bands of the Yakama Nation, Washington, and the Wanapum Band, a non-Federally recognized Indian group.

In the Federal Register (73 FR 16902, March 31, 2008), paragraph numbers 6 - 7 are corrected by substituting the following:

Officials of the Maryhill Museum of Art have determined that, pursuant to 25 U.S.C. 3001 (3)(B), the two cultural items described above are reasonably believed to have been placed with or near individual human remains at the time of death or later as part of the death rite or ceremony and are believed, by a preponderance of the evidence, to have been removed from a specific burial site of a Native American individual. Officials of the Maryhill Museum of Art also have determined that, pursuant to 25 U.S.C. 3001 (2), there is a relationship of shared group identity that can be reasonably traced between the unassociated funerary objects and the Confederated Tribes of the Umatilla Indian Reservation, Oregon, and Confederated Tribes and Bands of the Yakama Nation, Washington. Furthermore, officials of the Maryhill Museum of Art have determined that there is a cultural relationship between the unassociated funerary objects and the Wanapum Band, a non-Federally recognized Indian group.

Representatives of any other Indian tribe that believes itself to be culturally affiliated with the unassociated funerary objects should contact Colleen Schafroth, Executive Director, Maryhill Museum of Art, 35 Maryhill Museum Drive, Goldendale, WA 98620, telephone (509) 773-3733, before June 26, 2009. Repatriation of the unassociated funerary objects to the Confederated Tribes of the Umatilla Indian Reservation, Oregon; Confederated Tribes and Bands of the Yakama Nation, Washington; and the Wanapum Band, a non-Federally recognized Indian group, may proceed after that date if no additional claimants come forward. The Confederated Tribes of the Umatilla Indian Reservation, Oregon; Confederated Tribes and Bands of the Yakama Nation, Washington; and the Wanapum Band, a non-Federally recognized Indian group, are jointly claiming the unassociated funerary objects.

The Maryhill Museum of Art is responsible for notifying the Confederated Tribes of the Umatilla Indian Reservation, Oregon; Confederated Tribes and Bands of the Yakama Nation, Washington; and the Wanapum Band, a non-Federally recognized Indian group, that this notice has been published.

Dated: April 15, 2009.
Sherry Hutt,
Manager, National NAGPRA Program.

[FR Doc. E9-12258 Filed 5-26-09; 8:45 am]

BILLING CODE 4312-50-S